DEPARTMENT OF TRANSPORTATION

Federal Aviation Administration

Twenty Fourth Meeting of SC-222 AMS(R)S

AGENCY: Federal Aviation Administration (FAA), U.S. Department of Transportation (DOT).

ACTION: Twenty Fourth Meeting of the SC-222 AMS(R)S.

SUMMARY: The FAA is issuing this notice to advise the public of a meeting of Twenty Fourth Meeting of SC-222 AMS(R)S.

DATES: The meeting will be held October 5-6, 2016, 9:00 a.m. to 5:00 p.m.

ADDRESSES: The meeting will be held at: 1150 18th Street NW., Suite 910, Washington, DC 20036.

FOR FURTHER INFORMATION CONTACT: Jennifer Iversen at jiversen@rtca.org or (202) 330-0662, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Twenty Fourth Meeting of SC-222 AMS(R)S. The agenda will include the following:

Wednesday & Thursday, October 5-6, 2016 9 a.m.-5 p.m.

Welcome, Introductions, Administrative Remarks by Special Committee Leadership

• Designated Federal Official (DFO): Mr. David Robinson

• Chair RTCA-SC222: Dr. Chuck LaBerge, LaBerge Engineering

• Chair EUROCAE WG-82: Dr. Armin Schlereth, DFS

Agenda Overview

1. Review/Approve prior Plenary meeting Summary—(action item status)

2. Brief Status of Related Efforts (as necessary)

3. Detailed MASPS OC/FRAC Review INMARSAT

4. Detailed MOPS OC/FRAC Review HONEYWELL

5. Establish Agenda, Date and Place for next plenary meetings (as needed)

6. Review of Meeting summary report

7. Adjourn—Plenary meeting

12:00 Lunch both days

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on September 8, 2016.
Mohannad Dawoud,
Management & Program Analyst, Partnership Contracts Branch, ANG-A17, NextGen, Procurement Services Division, Federal Aviation Administration.

[FR Doc. 2016-21943 Filed 9-12-16; 8:45 am]

BILLING CODE 4910-13-P